DEPARTMENT OF ENERGY

Federal Energy Regulatory Commission

[Project No. 1927-008]

Notice of Amendment to Settlement Agreement and Soliciting Comments, Reply Comments, and Any Revised Recommendations, Terms and Conditions, and Prescriptions

February 6, 2003.

Take notice that the following Amendment to the North Umpqua Hydroelectric Project Settlement Agreement has been filed with the Commission and is available for public inspection.

a. Type of Application: Amendment to Settlement Agreement

b. Project No.: 1927-008

c. Date Filed: November 4, 2002; supplemented February 3, 2003.

d. Applicant: PacifiCorp

e. Name of Project: North Umpqua Hydroelectric Project

f. Location: On the North Umpqua River, in Douglas County, Oregon. The project occupies about 2,725 acres of land within the Umpqua National Forest, and about 117 acres of land administered by the Bureau of Land Management.

g. Filed Pursuant to: Rule 602 of the Commission's Rules of Practice and Procedure, 18 CFR 385.602.

h. Applicant Contact: John Sample, Senior Hydropower Attorney, PacifiCorp 825 NE Multnomah, Suite 1500, Portland, OR 97232, (503) 813-6688, and James M. Lynch, Stoel Rives LLP, 600 University Street, Suite 3600, Seattle, WA 98101-3197, (206) 624-0900.

i. FERC Contact: John Smith, 202-502-8972, john.smith@ferc.gov.

j. Deadline for filing comments: February 25, 2003. Reply comments and any revised recommendations, terms and conditions, and prescriptions are due March 7, 2003.

All documents (original and eight copies) should be filed with: Magalie R. Salas, Secretary, Federal Energy Regulatory Commission, 888 First Street, NE., Washington, DC 20426. Comments may be filed electronically via the internet in lieu of paper. See 18 CFR 385.2001(a)(1)(iii) and the instructions on the Commission's Web site ( http://www.ferc.gov ) under the “e-Filing” link.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Description of Filing: PacifiCorp filed the Amendment to the North Umpqua Hydroelectric Project Settlement Agreement (Amendment) and an explanatory statement supporting the Amendment on behalf of itself and the U.S. Department of Agriculture's Forest Service, U.S. Department of Commerce's National Marine Fisheries Service, U.S. Department of the Interior's Fish and Wildlife Service and Bureau of Land Management, Oregon Department of Environmental Quality, Oregon Department of Fish and Wildlife, and Oregon Water Resources Department (Governmental Parties). The purpose of the Amendment is to revise and modify sections 5.1, 7.1, 7.2, and 8.3 of the Settlement Agreement filed June 21, 2001. The signatories request that the Commission accept and incorporate, without material modification, as license articles in the new license all relevant provisions of the Settlement Agreement, Amendment, and the Governmental Parties' Final Terms and Conditions filed with the Commission in connection with this agreement. Comments, reply comments, and any revised recommendations, terms and conditions, and prescriptions are due on the dates listed above in item j.

l. A copy of the Amendment is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

Magalie R. Salas,
Secretary.

[FR Doc. 03-3538 Filed 2-12-03; 8:45 am]

BILLING CODE 6717-01-P